DEPARTMENT OF COMMERCE

National Oceanic and Atmospheric Administration

RIN 0648-XF275

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two and a half day meeting of its Standing, Reef Fish, Shrimp, and Socioeconomics Scientific and Statistical Committees (SSC).

DATES: The meeting will convene on Monday, March 27, 2017, from 9 a.m. to 5 p.m., Tuesday, March 28, 2017, from 8:30 a.m. to 5 p.m. and Wednesday, March 29, 2017, from 8:30 a.m.-12 p.m. EDT.

ADDRESSES: The meeting will be held in the Gulf Council's Conference Room. Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Day 1—Monday, March 27, 2017; 9 a.m.-5 p.m.

I. Introductions and Adoption of Agenda

II. Approval of Minutes of January 10-11, 2017 SSC meeting

III. Announcement of SSC representative at April 3-6 Council meeting in Birmingham, AL

Shrimp SSC Session

IV. Penaeid shrimp stock assessments

General Session

V. Updated Draft Stock Assessment Improvement Plan

VI. Stock assessment prioritization

Socioeconomic and Reef Fish SSC Session

VII. Review of studies included in the 5-year Grouper-Tilefish IFQ Review

a. Fishing behavior through space, time and depth: With application to the Gulf of Mexico Grouper-Tilefish IFQ Program

b. Efficiency of quota balancing mechanisms: With application to the Gulf of Mexico Grouper-Tilefish IFQ Program

c. Effects of the Grouper-Tilefish IFQ on Gulf of Mexico fishing communities

d. Effects of the Grouper-Tilefish IFQ on the capacity and technical efficiency of the commercial Gulf of Mexico reef fish fleet

e. Effects of the Grouper-Tilefish IFQ on ex-vessel prices of Gulf of Mexico reef fish

Day 2 and 3, Tuesday, March 28, 2017, 8:30 a.m.-5 p.m. and Wednesday, March 29, 2017, 8:30 a.m.-12 p.m.

Reef Fish SSC Session

VIII. Greater amberjack update assessment

IX. SEDAR 49 Data-limited Species Assessment, Part 2

a. Assessment results

b. Data triage results and recommendation of candidate species for future data limited assessments

c. SSC recommendations

X. TOR for MRIP Calibration Review and Review Workshop Volunteers

XI. TOR, Schedule, and Assessment Workshop Volunteers for SEDAR 52 (red snapper standard assessment)

XII. Review additional MSST alternatives for Amendment 44

XIII. ABC Control Rule White Paper

XIV. Update on National SSC VI meeting

Other Items

XV. Other Business

—Meeting Adjourns—

You may register for the SSC Meeting: Standing, Reef Fish, Mackerel, Shrimp and Socioeconomic on March 27-29, 2017 at: https://attendee.gotowebinar.com/register/4006984690860344321.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting-2017-03”.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 7, 2017.
Tracey L. Thompson,
Acting Deputy Director, Office of Sustainable Fisheries, National Marine Fisheries Service.

[FR Doc. 2017-04745 Filed 3-9-17; 8:45 am]

BILLING CODE 3510-22-P